DEPARTMENT OF EDUCATION

Notice of Submission for OMB Review; Office of Postsecondary Education; Secretary's Recognition of Accrediting Agencies

SUMMARY: The information collected is required to determine if an accrediting agency complies with the Secretary of Education's Criteria for Recognition and is used to allow the Secretary to make determinations on extending and/or continuing recognitions.

DATES: Interested persons are invited to submit comments on or before November 23, 2012.

ADDRESSES: Comments submitted in response to this notice should be submitted electronically through the Federal eRulemaking Portal at http://www.regulations.gov by selecting Docket ID number ED-2012-ICCD-0041 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E117, Washington, DC 20202-4537.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Title 34 CFR Part 602: Secretary's Recognition of Accrediting Agencies.

OMB Control Number: 1840-0788.

Type of Review: Revision.

Total Estimated Number of Annual Responses: 167.

Total Estimated Number of Annual Burden Hours: 4,885.

Abstract: In compliance with Title 34 CFR Part 602, the information collected consists of petitions, reports and accreditation notifications. The information collected is required to determine if an accrediting agency complies with the Secretary of Education's Criteria for Recognition and is used to allow the Secretary to make determinations on extending and/or continuing recognition. Only postsecondary institutions accredited by such a recognized accrediting agency obtain Title IV funding for its students. This portion of the new regulation was disclosed but not submitted for public comment when the negotiated rulemaking legislature was originally announced in the Federal Register in 2009. Therefore, this submission is considered a “revision of a currently approved collection.”

Dated: October 17, 2012.
Darrin A. King,
Director, Information Collection Clearance Division, Privacy, Information and Records Management Services, Office of Management.

[FR Doc. 2012-26093 Filed 10-22-12; 8:45 am]

BILLING CODE 4000-01-P